DEPARTMENT OF TRANSPORTATION

Federal Transit Administration

Notice of Limitation on Claims Against Proposed Public Transportation Project

AGENCY: Federal Transit Administration (FTA), DOT.

ACTION: Notice.

SUMMARY: This notice announces a final environmental action taken by the Federal Transit Administration (FTA) for the following project: Woodward Avenue Light Rail Transit Project, City of Detroit, Detroit, MI. The purpose of this notice is to announce publicly the environmental decision by FTA on the subject project and to activate the limitation on any claims that may challenge this final environmental action.

DATES: By this notice, FTA is advising the public of final agency action subject to Section 139(l) of Title 23, United States Code (U.S.C.). A claim seeking judicial review of the FTA actions announced herein for the listed public transportation project will be barred unless the claim is filed on or before March 5, 2012.

FOR FURTHER INFORMATION CONTACT: Carl Bausch, Director, Office of Human and Natural Environment, (202) 366-1626, or Christopher Van Wyk, Attorney-Advisor, Office of Chief Counsel, (202) 366-1733. FTA is located at 1200 New Jersey Avenue SE., Washington, DC 20590. Office hours are from 9 a.m. to 5:30 p.m., E.S.T., Monday through Friday, except Federal holidays.

SUPPLEMENTARY INFORMATION: Notice is hereby given that FTA has taken final agency action by issuing certain approvals for the public transportation project listed below. The action on this project, as well as the laws under which such action was taken, are described in the documentation issued in connection with the project to comply with the National Environmental Policy Act (NEPA) and in other documents in the FTA administrative record for the project. Interested parties may contact either the project sponsor or the relevant FTA Regional Office for more information on the project. Contact information for FTA's Regional Offices may be found at http://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The project and action that are the subject of this notice are:

Project name and location: Woodward Avenue Light Rail Transit Project, City of Detroit, Detroit, MI. Project sponsor: City of Detroit. Project description: The project consists of a 9.3-mile Light Rail Transit line along Woodward Avenue from the Central Business District in downtown Detroit to the Michigan State Fairgrounds at 8 Mile Road. The project includes a total of 19 stations. Ancillary facilities include eight traction power sub-stations, one park and ride lot, one possible temporary vehicle storage and maintenance facility, and one permanent vehicle storage and maintenance facility. The project is mostly within the cities of Detroit and Highland Park. Final agency actions: Section 106 Memorandum of Agreement dated June 2011; no use of Section 4(f) resources; project-level air quality conformity; Record of Decision, dated August 2011. Supporting documentation: Final Environmental Impact Statement, dated June 2011.

Issued on: August 31, 2011
Elizabeth Day,
Acting Deputy Associate Administrator for Planning and Environment, Washington, DC.

[FR Doc. 2011-22797 Filed 9-6-11; 8:45 am]

BILLING CODE 4910-17-P